SURFACE TRANSPORTATION BOARD

49 CFR Part 1250

[Docket No. EP 724 (Sub-No. 4)]

United States Rail Service Issues—Performance Data Reporting

AGENCY: Surface Transportation Board.

ACTION: Final rule; stay of regulations.

SUMMARY: On December 5, 2016, the Board published a final rule in this docket that established new regulations requiring all Class I railroads and the Chicago Transportation Coordination Office (CTCO), through its Class I members, to report certain service performance metrics on a weekly, semiannual, and occasional basis. The Board is staying the effective date of the final rule.

DATES: Effective February 7, 2017 and applicable on January 27, 2017, the final rule establishing 49 CFR part 1250 published at 81 FR 87472 on December 5, 2016, is stayed until March 21, 2017. The initial reporting date under the final rule will be March 29, 2017.

FOR FURTHER INFORMATION CONTACT: Sarah Fancher at (202) 245-0355. Assistance for the hearing impaired is available through the Federal Information Relay Service (FIRS) at (800) 877-8339.

SUPPLEMENTARY INFORMATION: On November 30, 2016, the Board adopted a final rule to establish new regulations requiring all Class I railroads and the CTCO, through its Class I members, to report certain service performance metrics on a weekly, semiannual, and occasional basis. U.S. Rail Serv. Issues—Performance Data Reporting (November Decision), EP 724 (Sub-No. 4), slip op. at 1 (STB served Nov. 30, 2016). The Board published the final rule in the Federal Register on December 5, 2016, and set an effective date of January 29, 2017. November Decision, slip op. at 4; 81 FR 87472. On January 20, 2017, a Memorandum for the Heads of Executive Departments and Agencies from Reince Priebus, Chief of Staff to President Trump, was issued.¹ Although the Board is an independent regulatory agency, it will stay the January 29, 2017 effective date in Docket No. EP 724 (Sub-No. 4) in accordance with the Memorandum's request that the effective date of rules published in the Federal Register that had not yet become effective be postponed for 60 days. ² As a result, the final rule in Docket No. EP 724 (Sub-No. 4) will now be stayed until March 21, 2017, and initial reporting will begin March 29, 2017.

¹ Reince Priebus, Memorandum for the Heads of Executive Departments and Agencies (Memorandum) (Jan. 20, 2017), http://www.whitehouse.gov/briefing-room/presidential-actions (follow hyperlink to Memorandum for the Heads of Executive Departments and Agencies).

² The Board's entire decision, U.S. Rail Serv. Issues—Data Collection, EP 724 (Sub-No. 3) et al. (STB served Jan. 27, 2017), is available on the Board's Web site by search at https://www.stb.gov/home.nsf/enhancedsearch?OpenForm.

The final rule adopted requirements for reporting cars in fertilizer service, as defined by 14 Standard Transportation Commodity Codes (STCCs) that The Fertilizer Institute (TFI) provided in comments. November Decision, slip op. at 15. On December 20, 2016, TFI petitioned the Board to reconsider the final rule to modify the definition of fertilizer by adding one STCC to the 14 that were previously included in the final rule. The Board will rule on the petition in a subsequent decision.

It is ordered:

1. The final rule in the November Decision, which was published in the Federal Register on December 5, 2016, will be stayed until March 21, 2017. The initial reporting date will be March 29, 2017.

2. Notice of the Board's action will be published in the Federal Register.

Decided: January 27, 2017.
By the Board, Rachel D. Campbell, Director, Office of Proceedings.
Brendetta S. Jones,
Clearance Clerk.

[FR Doc. 2017-02492 Filed 2-6-17; 8:45 am]

BILLING CODE 4915-01-P